DEPARTMENT OF ENERGY

Federal Energy Regulatory Commission

[Project No. 14502-000]

ECOsponsible, Incorporated; Notice of Preliminary Permit Application Accepted for Filing and Soliciting Comments, Motions To Intervene, and Competing Applications

On February 25, 2013, ECOsponsible, Incorporated filed an application for a preliminary permit, pursuant to section 4(f) of the Federal Power Act (FPA), proposing to study the feasibility of hydropower at the Rochester Gas and Electric Company's (RG&E) Mount Morris Power Dam located on the Genesee River, near the town of Mount Morris, Livingston County, New York. The sole purpose of a preliminary permit, if issued, is to grant the permit holder priority to file a license application during the permit term. A preliminary permit does not authorize the permit holder to perform any land-disturbing activities or otherwise enter upon lands or waters owned by others without the owners' express permission.

The proposed project would consist of the following: (1) An existing 30-foot-high, 334-foot-long stone and concrete gravity dam; (2) a single, proposed, low-head, horizontal bulb turbine having a total installed capacity of 1,100 kilowatts; (3) a proposed automatic trash rack cleaner; (4) an existing operation and maintenance building that will be used to house the supervisory control and data acquisition system; (5) a proposed overhead 200-foot-long, 2,400-volt transmission line connecting with RG&E's system; and (6) appurtenant facilities. The proposed project would have an average annual generation of 4,105 megawatt-hours, which would be sold to RG&E.

Applicant Contact: Mr. Dennis Ryan, Executive Director, ECOsponsible, Incorporated, 120 Mitchell Road, East Aurora, NY 14052; phone: (716) 203-1508.

FERC Contact: Tim Looney; phone: (202) 502-6096.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-14502) in the docket number field to access the document. For assistance, contact FERC Online Support.

Dated: May 8, 2013.
Kimberly D. Bose,
Secretary.

[FR Doc. 2013-11668 Filed 5-15-13; 8:45 am]

BILLING CODE 6717-01-P